Proclamation 8859 of September 7, 2012

National Days of Prayer and Remembrance, 2012

By the President of the United States of America

A Proclamation

Eleven years ago, America confronted one of our darkest days. The events of September 11, 2001, brought collapsing towers in Manhattan and billowing smoke at the Pentagon, wreckage on a Pennsylvania field, and deep ache to the soul of our Nation. Nearly 3,000 innocent people lost their lives that morning; still more gave theirs in service during the hours, days, and years that followed. All were loved, and none will be forgotten. On these days of prayer and remembrance, we mourn again the men, women, and children who were taken from us with terrible swiftness, stand with their friends and family, honor the courageous patriots who responded in our country's moment of need, and, with God's grace, rededicate ourselves to a spirit of unity and renewal.

Those who attacked us sought to deprive our Nation of the very ideals for which we stand—but in the aftermath of this tragedy, the American people kept alive the virtues and values that make us who we are and who we must always be. Today, the legacy of September 11 is one of rescue workers who rushed to the scene, firefighters who charged up the stairs, passengers who stormed the cockpit—courageous individuals who put their lives on the line to save people they never knew. It is also a legacy of those who stood up to serve in our Armed Forces. In the 11 years since that day, more than 2 million American service members have gone to war. They have volunteered, leaving the comforts of home and family to defend the country they love and the people they hold dear. Many have returned with dark memories of distant places and fallen friends; too many will never return at all. As we mark these solemn days, we pay tribute to the men and women who made the ultimate sacrifice in faraway lands, to heroes who died in the line of duty here at home, and to all who keep faith with the principles of service and sacrifice that will always be the source of America's strength.

On September 11, 2001, in our hour of grief, a Nation came together. No matter where we came from, what God we prayed to, or what race or ethnicity we were, we were united as one American family. This weekend, as we honor the memory of those we have lost, let us summon that spirit once more. Let us renew our sense of common purpose. And let us reaffirm the bond we share as a people: that out of many, we are one.

NOW, THEREFORE, I, BARACK OBAMA, President of the United States of America, by virtue of the authority vested in me by the Constitution and the laws of the United States, do hereby proclaim Friday, September 7 through Sunday, September 9, 2012, as National Days of Prayer and Remembrance. I ask that the people of the United States honor and remember the victims of September 11, 2001, and their loved ones through prayer, contemplation, memorial services, the visiting of memorials, the ringing of bells, evening candlelight remembrance vigils, and other appropriate ceremonies and activities. I invite people around the world to participate in this commemoration.

IN WITNESS WHEREOF, I have hereunto set my hand this seventh day of September, in the year of our Lord two thousand twelve, and of the Independence of the United States of America the two hundred and thirty-seventh.

[FR Doc. 2012-22704

Filed 9-12-12; 8:45 am]

Billing code 3295-F2-P